DEPARTMENT OF HOUSING AND URBAN DEVELOPMENT

[Docket No. FR-5831-C-38]

30-Day Notice of Proposed Information Collection: CDBG-DR Expenditure Deadline Extension Request Template (Pub. L. 113-2 Grantees Only)

AGENCY: Office of the Chief Information Officer, HUD.

ACTION: Notice.

SUMMARY: On July 31, 2015 at 80 FR 45675, HUD published a 60 day notice of proposed information collection entitled CDBG-DR Expenditure Deadline Extension Request Template (Pub. L. 113-2 Grantees Only). This notice is a 30 day notice of proposed information collection.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

Dated: July 6, 2015.
Colette Pollard,
Department Reports Management Officer, Office of the Chief Information Officer.

[FR Doc. 2015-19712 Filed 8-10-15; 8:45 am]

BILLING CODE 4210-67-P